FEDERAL COMMUNICATIONS COMMISSION

Information Collection(s) Being Submitted for Review and Approval to the Office of Management and Budget (OMB)

AGENCY: Federal Communications Commission.

ACTION: Notice; request for comments.

SUMMARY: As part of its continuing effort to reduce paperwork burden and as required b y the Paperwork Reduction Act (PRA) of 1995 (44 U.S.C. 3502-3520), the Federal Communications Commission invites the general public and other Federal agencies to take this opportunity to comment on the following information collection(s). Comments are requested concerning: whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before October 11, 2012. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov <mailto:Nicholas_A._Fraser@omb.eop.gov> and to Judith B. Herman, Federal Communications Commission, via the Internet at Judith-b.herman@fcc.gov. To submit your PRA comments by email send them to: PRA@fcc.gov <mailto:PRA@fcc.gov>.

FOR FURTHER INFORMATION CONTACT: Judith B. Herman, Office of Managing Director, FCC, at 202-418-0214.

SUPPLEMENTARY INFORMATION: OMB Control Number: 3060-0979.

Title: License Audit Letter.

Form Number: N/A.

Type of Review: Extension of a currently approved collection.

Respondents: Individuals or households; business or other for-profit entities, not-for-profit institutions and state, local or tribal government.

Number of Respondents: 25,000 respondents; 25,000 responses.

Estimated Time per Response: .50 hours.

Frequency of Response: One time reporting requirement.

Obligation to Respond: Required to obtain or retain benefits. Statutory authority for this information collection is contained in 47 U.S.C. sections 151, 152, 154(i), 155(c), 157, 201, 202, 208, 214, 301, 302a, 303, 307-311, 314, 316, 319, 324, 331, 332, 333, 336, 534 and 535 of the Communications Act of 1934, as amended.

Total Annual Burden: 12,500 hours.

Total Annual Cost: N/A.

Privacy Impact Assessment: Yes.

Nature and Extent of Confidentiality: Respondents may request material or information submitted to the Commission be withheld from public inspection under 47 CFR 0.459 of the Commission's rules.

Information within the Wireless Radio Services is maintained in the Commission's system of records notice (SORN), FCC-WTB-1, “Wireless Services Licensing Records.” These licensee records are publicly available and routinely used in accordance with subsection b of the Privacy Act of 1974, 5 U.S.C. 552a(b), as amended. Material that is afforded confidential treatment pursuant to a request being made under 47 CFR 0.459 will not be available for public inspection.

The Commission has in place the following policy and procedures for records retention and disposal:

• Records will be actively maintained as long as the individual remains a licensee.

• Paper records will be archived after being keyed or scanned into the system.

• Electronic records will be backed up on tape.

• Electronic and paper records will be maintained for at least twelve years and three months.

Needs and Uses: The Commission will submit this expiring information collection to the Office of Management and Budget (OMB) for approval for an extension (no change in the reporting requirement). There is no change in the Commission's previous burden estimates.

The Commission's Wireless Telecommunications Bureau (WTB) periodically conducts audits of the construction and/or operational status of various wireless radio stations in its licensing database that are subject to rule-based construction and operational requirements. The Commission's rules for these wireless services require construction within a specified time frame and require a station to remain operational in order for the license to remain valid.

This reporting requirement will be used by FCC staff to assure that licensee stations are constructed and currently operating in accordance with the parameters of the current FCC authorization and rules.

Federal Communications Commission.
Bulah P. Wheeler,
Deputy Manager, Office of the Secretary, Office of Managing Director.

[FR Doc. 2012-22264 Filed 9-10-12; 8:45 am]

BILLING CODE 6712-01-P